DEPARTMENT OF TRANSPORTATION

Federal Highway Administration

Environmental Impact Statement: Dane County, Wisconsin

AGENCY: Federal Highway Administration (FHWA), DOT.

ACTION: Notice of intent to prepare an environmental impact statement.

SUMMARY: The FHWA is issuing this notice to advise the public that an environmental impact statement (EIS) will be prepared for the proposed improvements of the Madison West Beltline (USH 12/14) between USH 14 in Middleton &Todd Drive in Madison; and Verona Road (USH 18/151) between CTH PD & USH 12/14 in Madison; Dane County, Wisconsin

FOR FURTHER INFORMATION CONTACT: Mr. Johnny M. Gerbitz, Field Operations Engineer, Federal Highway Administration, 567 D'Onofrio Drive, Madison, Wisconsin 53719-2814; telephone: (608) 829-7511. You may also contact Ms. Carol Cutshall, Director, Bureau of Environment, Wisconsin Department of Transportation, P.O. Box 7965, Madison, Wisconsin 53707-7965; telephone: (608) 266-9626.

SUPPLEMENTARY INFORMATION:

Electronic Access

An electronic copy of this document may be downloaded by using a computer, modem and suitable communications software from the Government Printing Offices' Electronic Bulletin Board Service at (202) 512-1661. Internet users may reach the Office of Federal Register home page at: http://www.nara.gov/fedreg and the Government Printing Offices' database at: http://www.access.gpo.gov/nara.

Background

The FHWA, in cooperation with the Wisconsin Department of Transportation, will prepare an Environmental Impact Statement to improve the West Madison Beltline—USH 12/14 between USH 14 and Todd Drive, a distance of 8.28 miles; and Verona Road—USH 18/151 between CTH PD and USH 12/14, a distance of 1.81 miles.

The anticipated format for the EIS will be Screening Worksheets rather than the typical narrative form. The Wisconsin Department of Transportation has developed a series of Environmental Screening Worksheets which are divided into Basic Sheets and Factor Sheets. The Screening Worksheets provide a flexible means of addressing the requirements for an Environmental Document.

The improvements to these two highways are considered necessary to provide capacity for existing and projected traffic demand, to reduce high crash rates, and provide better connectivity between land areas adjacent to the highways.

Planning, environmental, and engineering studies are underway to develop transportation alternatives. The EIS will assess the need, location, and environmental impacts of alternatives within the study area. These alternatives include:

(1) No Build—this alternative assumes the continued use of existing facilities with the maintenance necessary to ensure their use;

(2) Upgrade the Existing Facilities—this alternative would improve traffic handling capabilities and safety by reconstructing the roadway and interchanges. This may include the reconfiguration of one or more interchanges;

(3) Beltline Crossovers—this alternative would complement the other two alternatives to provide additional Beltline crossings for vehicles, bicycles, and pedestrians. All alternatives will examine improvements to bicycle and pedestrian facilities.

Information describing the proposed action and soliciting comments will be sent to appropriate Federal, State and local agencies and to private organizations and citizens who have previously expressed, or are known to have interest in this proposal. A series of public meetings will be held in the project corridor throughout the data gathering and development of alternatives. In addition, a public hearing will be held. Public notice will be given of the time and place of the meetings and hearing. The Draft EIS will be available for public and agency review and comment prior to the hearing. As part of the scoping process, coordination activities have begun. Scoping meetings will continue to be held on an individual or group meeting basis. Agency coordination will be accomplished during these meetings.

To ensure that the full range of issues related to this proposed action are addressed, and all substantive issues are identified, comments and suggestions are invited from all interested parties. Comments or questions concerning this proposed action and the EIS should be directed to FHWA or the Wisconsin Department of Transportation at the addresses provided in the caption FOR FURTHER INFORMATION CONTACT. (Catalog of Federal Domestic Assistance Program Number 20.205, Highway Planning and Construction. The regulations implementing Executive Order 12372 regarding intergovernmental consultation on Federal programs and activities apply to this program).

Authority: 23 U.S.C. 315; 49 CFR 1.48.

Issued on: August 14, 2001.
Johnny M. Gerbitz,
Field Operations Engineer, Federal Highway Administration, Madison, Wisconsin.

[FR Doc. 01-20931 Filed 8-20-01; 8:45 am]

BILLING CODE 4910-22-P